DEPARTMENT OF HEALTH AND HUMAN SERVICES

National Committee on Vital and Health Statistics: Meetings

Pursuant to the Federal Advisory Committee Act, the Department of Health and Human Services announces the following advisory committee meeting.

Name: National Committee on Vital and Health Statistics (NCVHS), Subcommittee on Privacy and Confidentiality.

Times and Dates: 9 a.m.-4 p.m. February 25, 2000.

Place: Conference Room 705A, Hubert H. Humphrey Building, 200 Independence Ave., S.W., Washington, D.C. 20201.

Status: Open.

Purpose: The National Committee on Vital and Health Statistics (NCVHS) is the Department's statutory federal advisory committee on health data, privacy and health information policy. The NCVHS Subcommittee on Privacy an Confidentiality has scheduled a meeting on Friday, February 25, 2000 to gather information and examine potential issues related to confidentiality policies and practices of “e-health” or web based health organizations. At the meeting, the Subcommittee will hear from several expert panels relating to e-health confidentiality policies, practices and issues. The tentative agenda for the meeting, as well as a description of the panels of speakers, will be posted on the NCVHS website: http://ncvhs.hhs.gov, when available.

Contact Person for More Information: Substantive program information about the meeting may be obtained from Gail Horlick (CDC, 404 639-8345), lead staff for the Subcommittee on Privacy and Confidentiality. Information about the NCVHS is available on the NCVHS home page of the HHS, website, or from Marjorie S. Greenberg, Executive Secretary, NCVHS, NCHS, CDC, Room 1100, Presidential Building, 6525 Belcrest Road, Hyattsville, Maryland 20782, telephone (301) 454-4245.

Dated: February 8, 2000.
James Scanlon,
Director, Division of Data Policy, Office of Program Systems, Office of the Assistant Secretary for Planning and Evaluation, and HHS Executive Staff Director, NCVHS.

[FR Doc. 00-3398 Filed 2-11-00; 8:45 am]

BILLING CODE 4151-04-M